DEPARTMENT OF HEALTH AND HUMAN SERVICES

National Institutes of Health

National Institute of Neurological Disorders and Stroke; Notice of Meeting

Pursuant to section 10(a) of the Federal Advisory Committee Act, as amended (5 U.S.C. App.), notice is hereby given of a meeting of the Muscular Dystrophy Coordinating Committee (MDCC).

The meeting will be open to the public, with attendance limited to space available. Individuals who plan to attend and need special assistance, such as sign language interpretation or other reasonable accommodations, should inform the Contact Person listed below in advance of the meeting.

Name of Committee: Muscular Dystrophy Coordinating Committee.

Date: April 20, 2011.

Time: 8 a.m. to 4:30 p.m.

Agenda: The 2011 meeting of the MDCC will review Federal agency activities in the muscular dystrophies, brief participants on the NIH grant database, NIH RePORTER, discuss therapy development resources at the NIH, and review joint NIH/FDA activities and initiatives in rare diseases. The MDCC will also discuss new opportunities in therapy development based upon a representative example of a new mechanistic finding and the lessons learned in current drug development programs. A panel will review and discuss the challenges of conducting clinical trials in the muscular dystrophies.

An agenda will be posted prior to the meeting on the MDCC Web site: http://www.ninds.nih.gov/find_people/groups/mdcc/index.htm.

Place: Hilton Rockville Hotel & Executive Meeting Center, 1750 Rockville Pike, Rockville, Maryland 20852-1699.

Contact Person: John D. Porter, PhD, Executive Secretary, Muscular Dystrophy Coordinating Committee, National Institute of Neurological Disorders and Stroke, NIH, 6001 Executive Boulevard, NSC 2172, Bethesda, MD 20892, (301) 496-5739, porterjo@ninds.nih.gov.

Any interested person may file written comments with the committee by forwarding their statement to the Contact Person listed on this notice. The statement should include the name, address, telephone number and when applicable, the business or professional affiliation of the interested person.

(Catalogue of Federal Domestic Assistance Program Nos. 93.853, Clinical Research Related to Neurological Disorders; 93.854, Biological Basis Research in the Neurosciences, National Institutes of Health, HHS)

Dated: March 11, 2011.
Jennifer S. Spaeth,
Director, Office of Federal Advisory Committee Policy.

[FR Doc. 2011-6453 Filed 3-17-11; 8:45 am]

BILLING CODE 4140-01-P